GENERAL SERVICES ADMINISTRATION

[Notice-MRB-2024-07; Docket No. 2024-0002; Sequence No. 53]

Notice of Upcoming Meetings of the Open Government Federal Advisory Committee

AGENCY: Office of Government-wide Policy, General Services Administration (GSA).

ACTION: Notice.

SUMMARY: GSA is providing notice of the second, third, and fourth public meetings of the Open Government Federal Advisory Committee (hereinafter “the Committee” or “the OG FAC”). All meetings are open to the public.

DATES: The GSA OG FAC will hold 3 virtual (webcast) meetings, which are open to the public, on the following days and times:

• Wednesday, December 11, 2024, from 1 p.m. to 4 p.m., eastern standard time (EST).

• Wednesday, January 8, 2025, from 1 p.m. to 4 p.m., EST.

• Friday, February 7, 2025, from 1 p.m. to 4 p.m., EST.

ADDRESSES: The December 11, 2024, January 8, 2025, and February 7, 2025 meetings will be available via webcast. Registrants will receive the webcast information when they register for each respective meeting.

FOR FURTHER INFORMATION CONTACT: Arthur Brunson, OG FAC Designated Federal Officer, Office of Government-wide Policy, 202-501-1126, or email: ogfac@gsa.gov.

SUPPLEMENTARY INFORMATION: The Administrator of GSA established the OG FAC as a discretionary advisory committee under agency authority in accordance with the provisions of the Federal Advisory Committee Act (FACA), as amended, 5 U.S.C. ch. 10.

The OG FAC serves as an advisory body to GSA on open government initiatives including GSA's creation, implementation and monitoring of U.S. Open Government National Action Plans (NAPs) and commitment themes. The initial focus for the OG FAC will be to provide advice to GSA on the development of NAP 6, Open Government Policy, and Public Engagement. The OG FAC advises GSA's Administrator on emerging open government issues, challenges and opportunities to support GSA's U.S. Open Government Secretariat.

Purpose of the Meetings

The purpose of these meetings is to continue the work of the advisory committee by further developing committee norms for the operation of the committee, a framework for recommendations for the U.S. National Action Plan 6 (NAP 6), and a framework for recommendations on emerging open government issues. These meetings may include presentations, deliberations, and voting by members on five subject areas:

• Evaluation: How to best evaluate ideas for inclusion in the OG FAC recommendations and to establish a rubric for evaluating, comparing, and ranking recommendations.

• Engagement: How to request, receive, and disclose input from stakeholders.

• Structure: How to best structure the committee, in particular, how the subcommittees meet the duties of the committee.

• Recommendations: How to best develop, evaluate, engage, and structure the recommendations for NAP 6 and on emerging open government issues.

• Deliberation: The committee may consider substantive ideas for inclusion in the committee's recommendations.

The public is invited to attend and provide oral comments in these meetings. All three meetings are virtual-only and will be recorded.

Meeting Agenda Summary

Public Meeting (2) December 11, 2024, 1 p.m. to 4 p.m., EST.

Agenda

• Call to Order/Roll Call

• Opening Remarks by the OG FAC Chair

• Committee Presentation(s)

• Committee Deliberation

• Committee Voting

• Oral Public Comments

• Closing Remarks and Adjournment

Public Meeting (3) January 8, 2025, 1 p.m. to 4 p.m., EST.

Agenda

• Call to Order/Roll Call

• Opening Remarks by the OG FAC Chair

• Committee Presentation(s)

• Committee Deliberation

• Committee Voting

• Oral Public Comments

• Closing Remarks and Adjournment

Public Meeting (4) February 7, 2025, 1 p.m. to 4 p.m., EST.

Agenda

• Call to Order/Roll Call

• Opening Remarks by the OG FAC Chair

• Committee Presentation(s)

• Committee Deliberation

• Committee Voting

• Oral Public Comments

• Closing Remarks and Adjournment

Registration Information

Registration is requested for all 3 virtual meetings. An email address is requested so that we can provide you with information to access the meeting.

December 11, 2024 Registration

https://gsa.zoomgov.com/webinar/register/WN_X9xWvACoThi6fBNfJqeT0w.

January 8, 2025 Registration

https://gsa.zoomgov.com/webinar/register/WN_aBlbN3JKSj25yfsC0-9cBw.

February 7, 2025 Registration

https://gsa.zoomgov.com/webinar/register/WN_9X8rLjypSC-cjmYMywyX6g.

Meeting Materials

Meeting agendas and materials will be posted in advance of each meeting on our website at: https://www.gsa.gov/governmentwide-initiatives/us-open-government/open-government-federal-advisory-committee#tab--Committee-meetings.

Public Comment

Written public comments will be provided to OG FAC members in advance of the meetings if received by the following dates and times:

• Wednesday, December 4, 2024, no later than 5 p.m. EST, for the Wednesday, December 11, 2024 meeting.

• Tuesday, December 31, 2024, no later than 5 p.m. EST, for the Wednesday, January 8, 2025 meeting.

• Friday, January 31, 2025, no later than 5 p.m. EST, for the Friday, February 7, 2025 meeting.

Written comments may be sent to ogfac@gsa.gov. We request all written comments have the relevant meeting date in the email subject line.

If you wish to offer oral public comments during the public comments period of any of these meetings, you are requested to register in advance. We request that you register by the following dates and times:

• Tuesday, December 10, 2024, no later than 5 p.m. EST for the Wednesday, December 11, 2024 meeting.

• Tuesday, January 7, 2025, no later than 5 p.m. EST for the Wednesday, January 8, 2025 meeting.

• Thursday, February 6, 2025, no later than 5 p.m. EST for the Friday, February 7, 2025 meeting.

Oral public comments will be limited to three (3) minutes per individual and may be made virtually.

Special Accommodations

For information on services for individuals with disabilities, or to request accommodation of a disability, please contact the Designated Federal Officer at least 10 business days prior to the meeting to give GSA as much time as possible to process the request. Closed captioning and live ASL interpreter services are available.

Mehul Parekh,
Acting, Associate Administrator, Office of Government-wide Policy, General Services Administration.

[FR Doc. 2024-26927 Filed 11-18-24; 8:45 am]

BILLING CODE 6820-61-P